DEPARTMENT OF TRANSPORTATION

Federal Aviation Administration

14 CFR Part 39

[Docket No. FAA-2006-23890; Directorate Identifier 2005-NM-229-AD; Amendment 39-14633; AD 2006-12-08]

RIN 2120-AA64

Airworthiness Directives; Goodrich Evacuation Systems Approved Under Technical Standard Order (TSO) TSO-C69b and Installed on Airbus Model A330-200 and -300 Series Airplanes, Model A340-200 and -300 Series Airplanes, and Model A340-541 and -642 Airplanes

AGENCY: Federal Aviation Administration (FAA), Department of Transportation (DOT).

ACTION: Final rule; correction.

SUMMARY: The FAA is correcting an inadvertent error in an existing airworthiness directive (AD) that was published in the Federal Register on June 12, 2006 (71 FR 33606). The error resulted in an incorrect reference to the airplane manufacturer instead of the TSO holder. This AD applies to Goodrich evacuation systems approved under TSO-C69b and installed on certain Airbus Model A330-200 and -300 series airplanes, Model A340-200 and -300 series airplanes, and Model A340-541 and -642 airplanes. This AD requires inspecting to determine the part number of the pressure relief valves on the affected Goodrich evacuation systems, and corrective action if necessary.

DATES: Effective July 17, 2006.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., Room PL-401, Washington, DC. This docket number is FAA-2006-23890; the directorate identifier for this docket is 2005-NM-229-AD.

FOR FURTHER INFORMATION CONTACT: Tracy Ton, Aerospace Engineer, Cabin Safety/Mechanical and Environmental Systems Branch, ANM-150L, FAA, Los Angeles Aircraft Certification Office, 3960 Paramount Boulevard, Lakewood, California 90712-4137; telephone (562) 627-5352; fax (562) 627-5210.

SUPPLEMENTARY INFORMATION: On May 31, 2006, the FAA issued AD 2006-12-08, amendment 39-14633 (71 FR 33606, June 12, 2006), for Goodrich evacuation systems approved under TSO-C69b and installed on certain Airbus Model A330-200 and -300 series airplanes, Model A340-200 and -300 series airplanes, and Model A340-541 and -642 airplanes. The AD requires inspecting to determine the part number of the pressure relief valves on the affected Goodrich evacuation systems, and corrective action if necessary.

As published, the final rule identifies an incorrect reference to the airplane manufacturer (Airbus) in the regulatory text of the AD. The correct reference is Goodrich (formerly BF Goodrich).

No other part of the regulatory information has been changed; therefore, the final rule is not republished in the Federal Register.

The effective date of this AD remains July 17, 2006.

§ 39.13 [Corrected]

In the Federal Register of June 12, 2006, on page 33607, in the second column, paragraph 2 of PART 39—AIRWORTHINESS DIRECTIVES of AD 2006-12-08 is corrected to read as follows:

* * * * *

2. The Federal Aviation Administration (FAA) amends § 39.13 by adding the following new airworthiness directive (AD):

2006-12-08 Goodrich (Formerly BF Goodrich): Amendment 39-14633. Docket No. FAA-2006-23890; Directorate Identifier 2005-NM-229-AD.

* * * * *

Issued in Renton, Washington, on June 20, 2006.
Kalene C. Yanamura,
Acting Manager, Transport Airplane Directorate, Aircraft Certification Service.

[FR Doc. 06-5739 Filed 6-27-06; 8:45 am]

BILLING CODE 4910-13-P